NATIONAL AERONAUTICS AND SPACE ADMINISTRATION

[Notice: 19-049]

NASA Advisory Council; Regulatory and Policy Committee; Meeting

AGENCY: National Aeronautics and Space Administration.

ACTION: Notice of meeting.

SUMMARY: In accordance with the Federal Advisory Committee Act, as amended, the National Aeronautics and Space Administration (NASA) announces a meeting of the Regulatory and Policy Committee of the NASA Advisory Council (NAC). This Committee reports to the NAC.

DATES: Thursday, September 5, 2019, from 10:00 a.m.-4:00 p.m., Eastern Time.

ADDRESSES: NASA Headquarters, Glennan Conference Room 1Q39, First Floor, 300 E Street SW, Washington, DC 20546.

FOR FURTHER INFORMATION CONTACT: Mr. Andrew Rowe, Designated Federal Officer, Office of Legislative and Intergovernmental Affairs, NASA Headquarters, Washington, DC 20546, (202) 358-4269 or andrew.rowe@nasa.gov.

SUPPLEMENTARY INFORMATION: This meeting will be open to the public up to the capacity of the meeting room. This meeting is also available telephonically and by WebEx. You must use a touch-tone phone to participate in this meeting. Any interested person may dial the toll number 1-720-259-6462 and then the numeric passcode 713620, followed by the # sign, or toll-free 1-844-467-6272 and then the numeric passcode 713620, followed by the # sign. Note: If dialing in, please “mute” your phone. To join via WebEx, the link is https://nasaenterprise.webex.com/. The meeting number is: 905 419 181 and the meeting password is qSpTpD?7 (case sensitive).

The agenda for the meeting will include:

—Extraction and Utilization of Extraterrestrial Resources

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Mr. Andrew Rowe, at andrew.rowe@nasa.gov.

Patricia Rausch,
Advisory Committee Management Officer, National Aeronautics and Space Administration.

[FR Doc. 2019-17944 Filed 8-19-19; 8:45 am]

BILLING CODE 7510-13-P